DEPARTMENT OF HEALTH AND HUMAN SERVICES

Office of the Secretary

Office of Minority Health; Notice of a Cooperative Agreement with the Association for American Indian Physicians

AGENCY: Office of the Secretary, Office of Minority Health, HHS.

ACTION: Notice of a Cooperative Agreement with the Association for American Indian Physicians.

The Office of Minority Health (OMH), Office of Public Health and Science, announces its intent to continue support of the umbrella cooperative agreement with the Association for American Indian Physicians (AAIP). This cooperative agreement will continue the broad programmatic framework in which specific projects can be supported by various governmental agencies during the project period.

The purpose of this cooperative agreement is to assist AAIP in expanding and enhancing its activities relevant to education, health promotion, disease prevention, and family and youth violence prevention, with the ultimate goal of improving the health status of minorities and disadvantaged people.

The OMH will provide technical assistance and oversight as necessary for the implementation, conduct, and assessment of the project activities. On an as-needed basis, OMH will assist in arranging consultation from other government agencies and non-government agencies.

Authority: This cooperative agreement is authorized under Section 1707(e)(1) of the Public Health Service Act, as amended.

Background

Assistance will continue to be provided to AAIP. During the last 5 years, AAIP has successfully demonstrated the ability to work with health agencies on activities relevant to increasing the proportion of practicing Native American health professionals, and enhancing physician and community education on health promotion, disease prevention, and research opportunities. The AAIP is uniquely qualified to continue to accomplish the purposes of this cooperative agreement because it has the following combination of factors:

• This Association has developed, expanded, and managed an infrastructure to coordinate and implement various medical intervention programs within local communities and physician groups that deal extensively with Indian health issues. The Association has also established several oversight committees that provide a foundation upon which to develop, promote, and manage health intervention, education, and training programs which are aimed at preventing and reducing unnecessary morbidity and mortality rates among American Indian and Alaska Native populations.

• It has established itself and its members as an organization with professionals who serve as leaders and experts in planning, developing, implementing, and evaluating health education, prevention, and promotion programs aimed at reducing excessive mortality and adverse health behaviors among American Indian and Alaska Native communities.

• It has developed databases and directories of health services, health care accessibility issues, and professional development initiatives that deal exclusively with American Indian and Alaska Native populations that are necessary for any intervention dealing with this minority population.

• It has assessed and evaluated the current education, research and disease prevention, and health promotion activities for its members, affiliated groups, and represented sub-populations.

• It has developed a national organization whose members are all predominantly minority health care professionals and providers with excellent professional performance records.

• It has developed a base of critical knowledge, skills, and abilities related to instruction in medical and health professions preparation. Through the collective efforts of its members, its affiliated community-based organizations, sponsored research, and sponsored health education and prevention programs, the AAIP has demonstrated (1) the ability to work with academic institutions and health agencies on mutual education, service, and research endeavors relating to the goal of disease prevention and health promotion for American Indian and Alaska Native populations; (2) the leadership necessary to attract minority health professionals into public health careers; and (3) the leadership needed to assist health care professionals work more effectively with American Indian and Alaska Native clients and communities.

This cooperative agreement will be continued for an additional five-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: June 22, 2000.
Nathan Stinson, Jr.,
Deputy Assistant Secretary for Minority Health.

[FR Doc. 00-17527 Filed 7-11-00; 8:45 am]

BILLING CODE 4160-17-P